DEPARTMENT OF TRANSPORTATION

Federal Aviation Administration

14 CFR Part 39

[Docket No. 2004-CE-05-AD]

RIN 2120-AA64

Airworthiness Directives; Air Tractor, Inc. Models AT-401, AT-401B, AT-402, AT-402A, AT-402B, AT-501, AT-502, AT-502A, AT-502B, AT-503A, AT-602, AT-802, and AT-802A Airplanes

Correction

In proposed rule document 04-8056 beginning on page 18848 in the issue of April 9, 2004, make the following corrections:

§39.13 [Corrected]

1. On page 18850, in §39.13, in paragraph (e), in the table, under the heading “Procedures” in the second entry, in the second line, “#218A” should read “#195B”.

2. On the same page, in the same section, in the same paragraph, in the same table, under the same heading, in the fourth entry, in the second to last line, “#218B, dated” should read “#213B, revised”.

3. On page 18851, in the same section, in the same paragraph, in the same table, under the same heading, in the seventh entry, in the second to last line, “dated” should read “revised”.

[FR Doc. C4-8056 Filed 6-3-04; 8:45 am]

BILLING CODE 1505-01-D